DEPARTMENT OF TRANSPORTATION

Federal Highway Administration

Notice of Intent To Prepare an Environmental Impact Statement USH 41, Brown County, WI

AGENCY: Federal Highway Administration (FHWA), DOT.

ACTION: Notice of intent to prepare an Environmental Impact Statement.

SUMMARY: The FHWA is issuing this notice to advise the public that an Environmental Impact Statement (EIS) will be prepared for transportation improvements in the USH 41 corridor in Brown County, Wisconsin. The EIS is being prepared in conformance with 40 CFR 1500 and FHWA regulations.

SUPPLEMENTARY INFORMATION: The Federal Highway Administration (FHWA), in cooperation with the Wisconsin Department of Transportation (WisDOT), will prepare an Environmental Impact Statement (EIS) on improvements needed to safely accommodate local and regional traffic and to preserve the traffic carrying capacity on an approximate 3.5-mile portion of USH 41 between Memorial Drive and CTH M (Lineville Road) including the reconstruction of the interchange at USH 41 and Interstate 43 in the City of Green Bay, the Village of Howard and the Village of Suamico, Brown County, Wisconsin. The EIS will evaluate no build and build alternatives for this portion of the USH 41 corridor.

Participation by the public, local officials, State and Federal regulatory agencies, American Indian Tribes and other interests will be solicited through public information meetings, agency coordination meetings, and a public hearing. Opportunities to be participating and/or cooperating agencies and to provide input on the project's coordination plan and impact assessment methodology will also be provided under section 6002 of the Safe, Accountable, Flexible, Efficient Transportation Equity Act: A Legacy for Users (SAFETEA-LU).

This study shall comply with Title VI of the Civil Rights Act and of Executive Order 12898, which prohibits discrimination on the basis of race, color, age, sex, or country of national origin in the implementation of this action. To ensure that the full range of issues related to this proposed action is addressed, and all substantive issues are identified, comments and suggestions are invited from all interested parties. Comments or questions concerning this proposed action should be directed to FHWA or WisDOT at the addresses provided below (Catalog of Federal Domestic Assistance Program Number 20.205, Highway Planning and Construction.)

FOR FURTHER INFORMATION CONTACT: David Platz, Field Operations Engineer, Federal Highway Administration, 525 Junction Road, Suite 8000, Madison, WI 53717-2157; Telephone: (608) 829-7509. You may also contact Eugene Johnson, Director, Bureau of Equity and Environmental Services, Wisconsin Department of Transportation, P.O. Box 7916, Madison, Wisconsin 53707-7916: Telephone: (608) 267-9527.

An electronic copy of this document may be downloaded from the Government Printing Office's Electronic Bulletin Board Service at (202) 512-1661 by using a computer modem and suitable communications software. Internet users may reach the Office of Federal Register's home page at: http://www.archives.gov/ and the Government Printing Office's database at: http://www.gpoaccess.gov/nara/index.html.

Authority: 23 U.S.C. 315; 49 CFR 1.48.

Issued on June 4, 2009.
Tracey McKenney,
Program Operations Engineer, Federal Highway Administration, Madison, Wisconsin.

[FR Doc. E9-13565 Filed 6-9-09; 8:45 am]

BILLING CODE P